FEDERAL ELECTION COMMISSION

[Notice 2004-10]

Filing Dates for the North Carolina Special Election in the 1st Congressional District

AGENCY: Federal Election Commission.

ACTION: Notice of filing dates for special election.

SUMMARY: North Carolina has scheduled a special general election on July 20, 2004, to fill the U.S. House of Representatives seat in the First Congressional District vacated by Representative Frank W. Ballance, Jr.

Committees participating in the North Carolina Special General Election are required to file pre- and post-election reports.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates participating in the North Carolina Special General Election shall file a 12-day Pre-General Report on July 8, 2004; and a 30-day Post-General Report on August 19, 2004. (See chart below for the closing date for each report).

Unauthorized Committees (PACs and Party Committees)

Political committees filing on a quarterly basis in 2004 are subject to special election reporting if they make previously undisclosed contributions or expenditures in connection with the North Carolina Special General Election by the close of books for the applicable report(s). (See chart below for the closing date for each report).

Committees filing monthly that support candidates in the North Carolina Special General Election should continue to file according to the monthly reporting schedule.

Disclosure of Electioneering Communications (Individuals and Other Unregistered Organizations)

As required by the Bipartisan Campaign Reform Act of 2002, the Federal Election Commission promulgated new electioneering communications rules governing television and radio communications that refer to a clearly identified federal candidate and are distributed within 60 days prior to a special general election. 11 CFR 100.29. The statute and regulations require, among other things, that individuals and other groups not registered with the FEC who make electioneering communications costing more than $10,000 in the aggregate in a calendar year disclose that activity to the Commission within 24 hours of the distribution of the communication. See 11 CFR 104.20.

The 60-day electioneering communications period in connection with the North Carolina Special General runs from May 21, 2004 through July 20, 2004.

Calendar of Reporting Dates for North Carolina Special Election Committees Involved in the Special General (07/20/04) Must File
Report | Close of books¹ | Reg./cert. & overnight mailing date ² | Filing date
July Quarterly | —waived—
Pre-General | 06/30/04 | ³ 07/05/04 | 07/08/04
Post-General | 08/09/04 | 08/19/04 | 08/19/04
¹ The period begins with the close of books of the last report filed by the committee. If the committee has filed no previous reports, the period begins with the date of the committee's first activity.
² Reports sent by registered or certified mail must be postmarked by the mailing date. Committees should keep the mailing receipt with its postmark as proof of filing. If using overnight mail, the delivery service must receive the report by the mailing date. “Overnight mail” means an overnight service with an on-line tracking system. Reports filed by any other means must be received by the Commission by the filing date.
³ Notice that the registered, certified and overnight mailing date falls on a weekend or federal holiday. The report should be postmarked before that date.

Dated: June 21, 2004.
Michael E. Toner,
Commissioner, Federal Election Commission.

[FR Doc. 04-14385 Filed 6-25-04; 8:45 am]

BILLING CODE 6715-01-P